DEPARTMENT OF ENERGY

Federal Energy Regulatory Commission

[Docket No. CP01-69-007]

Petal Gas Storage, L.L.C.; Notice of Compliance Filing

May 7, 2004.

Take notice that on April 29, 2004, Petal Gas Storage, L.L.C. (Petal), tendered for filing as part of its FERC Gas Tariff, Original Volume No. 1, First Revised Sheet No. 4A, with an effective date of July 1, 2002.

Petal states that the revised tariff sheet is being filed in order to comply with the Commission's March 30, 2004, Order on Rehearing.

Any person desiring to protest said filing should file a protest with the Federal Energy Regulatory Commission, 888 First Street, NE., Washington, DC 20426, in accordance with section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: May 21, 2004.

Magalie R. Salas,
Secretary.

[FR Doc. E4-1156 Filed 5-12-04; 8:45 am]

BILLING CODE 6717-01-P